DEPARTMENT OF LABOR

Employment and Training Administration

[TA-W-51,741]

Apone's T-Shirt Cache, Anchorage, AK; Notice of Termination of Investigation

Pursuant to section 221 of the Trade Act of 1974, as amended, an investigation was initiated on May 14, 2003, in response to a petition filed by a company official on behalf of workers at Apone's T-Shirt Cache, Anchorage, Alaska.

All workers were separated from the subject firm more than one year before the date of the petition. Section 223 (b) of the Act specifies that no certification may apply to any worker whose last separation occurred more than one year before the date of the petition. Consequently, further investigation in this case would serve no purpose, and the investigation has been terminated.

Signed in Washington, DC, this 16th day of May, 2003.
Elliott S. Kushner,
Certifying Officer, Division of Trade Adjustment Assistance.

[FR Doc. 03-13808 Filed 6-2-03; 8:45 am]

BILLING CODE 4510-30-P